DEPARTMENT OF ENERGY

Federal Energy Regulatory Commission

Combined Notice of Filings

Take notice that the Commission has received the following Natural Gas Pipeline Rate and Refund Report filings:

Filings Instituting Proceedings

Docket Numbers: RP22-843-000.

Applicants: Transcontinental Gas Pipe Line Company, LLC.

Description:§ 4(d) Rate Filing: Rate Schedule S-2 Tracker Filing eff 4/1/2022 to be effective 4/1/2022.

Filed Date: 4/27/22.

Accession Number: 20220427-5239.

Comment Date: 5 p.m. ET 5/9/22.

Docket Numbers: RP22-844-000.

Applicants: Discovery Gas Transmission LLC.

Description: Annual Imbalance Cash Out Report for 2021 of Discovery Gas Transmission LLC.

Filed Date: 4/27/22.

Accession Number: 20220427-5246.

Comment Date: 5 p.m. ET 5/9/22.

Docket Numbers: RP22-845-000.

Applicants: Transcontinental Gas Pipe Line Company, LLC.

Description: § 4(d) Rate Filing: Rate Schules GSS and LSS Tracker Filing eff 4/1/2022 to be effective 4/1/2022.

Filed Date: 4/27/22.

Accession Number: 20220427-5311.

Comment Date: 5 p.m. ET 5/9/22.

Docket Numbers: RP22-846-000.

Applicants: Bison Pipeline LLC.

Description: Compliance filing: 2022 Operational Purchases and Sales Report to be effective N/A.

Filed Date: 4/27/22.

Accession Number: 20220427-5313.

Comment Date: 5 p.m. ET 5/9/22.

Docket Numbers: RP22-847-000.

Applicants:Columbia Gas Transmission, LLC.

Description:§ 4(d) Rate Filing: MU Mktg LLC—Replacement Contract NR_264870_264871 to be effective 4/1/2022.

Filed Date: 4/27/22.

Accession Number: 20220427-5331.

Comment Date: 5 p.m. ET 5/9/22.

Docket Numbers:RP22-849-000

Applicants:Ruby Pipeline, L.L.C.

Description:§ 4(d) Rate Filing: Fuel LU and EPC Computation Update Filing to be effective 6/1/2022.

Filed Date: 4/28/22.

Accession Number: 20220428-5098.

Comment Date: 5 p.m. ET 5/10/22.

Docket Numbers: RP22-850-000.

Applicants: Southeast Supply Header, LLC.

Description: § 4(d) Rate Filing: 2022 SESH TUP/SBA Annual Filing to be effective 6/1/2022.

Filed Date: 4/28/22.

Accession Number: 20220428-5099.

Comment Date: 5 p.m. ET 5/10/22.

Docket Numbers: RP22-851-000.

Applicants: Cheyenne Plains Gas Pipeline Company, L.L.C.

Description: § 4(d) Rate Filing: Fuel and LU Annual Update and OPS Report to be effective 6/1/2022.

Filed Date: 4/28/22.

Accession Number: 20220428-5104.

Comment Date: 5 p.m. ET 5/10/22.

Docket Numbers: RP22-852-000.

Applicants: Wyoming Interstate Company, L.L.C.

Description: § 4(d) Rate Filing: FL&U Update Quarterly Filing to be effective 6/1/2022.

Filed Date: 4/28/22.

Accession Number: 20220428-5117.

Comment Date: 5 p.m. ET 5/10/22.

Docket Numbers: RP22-853-000.

Applicants: Transwestern Pipeline Company, LLC.

Description: § 4(d) Rate Filing: Housekeeping Filing on 4-28-22 to be effective 5/31/2022.

Filed Date: 4/28/22.

Accession Number: 20220428-5119.

Comment Date: 5 p.m. ET 5/10/22.

Docket Numbers: RP22-854-000.

Applicants: Sierrita Gas Pipeline LLC.

Description: § 4(d) Rate Filing: Quarterly Fuel and LU Update Filing to be effective 6/1/2022.

Filed Date: 4/28/22.

Accession Number: 20220428-5129.

Comment Date: 5 p.m. ET 5/10/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2022.
Debbie-Anne A. Reese,
Deputy Secretary.

[FR Doc. 2022-09543 Filed 5-3-22; 8:45 am]

BILLING CODE 6717-01-P